DEPARTMENT OF DEFENSE

Department of the Army; Corps of Engineers

Public Scoping Meeting and Preparation of Environmental Impact Statement for Luce Bayou Interbasin Transfer Project in Liberty County and Harris County, TX

AGENCY: Department of the Army, U.S. Army Corps of Engineers, DoD.

ACTION: Notice of intent.

SUMMARY: The U.S. Army Corps of Engineers, Galveston District, has received a permit application for a Department of the Army Permit pursuant to Section 10 of the Rivers and Harbors Act of 1899 (33 U.S.C. 403) and Section 404 of the Clean Water Act (33 U.S.C. 1344) from the Coastal Water Authority (SWG-2009-00188) for the proposed Coastal Water Authority's Luce Bayou Interbasin Transfer Project located in eastern Liberty County with the 26.5-mile corridor extending southwestward from the Trinity River to a discharge point near the confluence of Luce Bayou with Lake Houston. The primary Federal involvement associated with the proposed action is the discharge or dredged or fill material into waters of the United States, including jurisdictional wetlands, and the construction of structures that may affect navigable waters. Federal authorizations for the proposed project would constitute a “major federal action.” Based on the potential impacts, both individually and cumulatively, the Corps intends to prepare an Environmental Statement (EIS) in compliance with the National Environmental Policy Act to render a final decision on the permit applications.

The Corps' decision will be to either issue, issue with modification or deny Department of the Army permits for the proposed action. The EIS will assess the potential social, economic and environmental impacts of the construction and operation of the interbasin conveyance, associated facilities, and appurtenances and is intended to be sufficient in scope to address Federal, State and local requirements, environmental issues concerning the proposed action, and permit reviews.

DATES: The scoping period will commence with the publication of this notice. The formal scoping period will end 60 days after the publication of this notice. Comments regarding issues relative to the proposed project should be received.

ADDRESSES: You may submit comments by any of the following methods: Mail: Jayson M. Hudson, U.S. Army Corps of Engineers, Regulatory Branch, P.O. Box 1229, Galveston, TX 77553-1229; Fax: (409) 766-3931 or E-mail: Jayson.m.hudson@usace.army.mil. Emailed comments, including attachments, should be provided in .doc, .docx, .pdf or .txt formats. Documents pertinent to the proposed project may be examined at http://www.swg.usace.army.mil/reg/eis.asp.

FOR FURTHER INFORMATION CONTACT: Mr. Jayson Hudson, (409) 766-3108.

SUPPLEMENTARY INFORMATION: The Galveston District intends to prepare a DEIS on the proposed Luce Bayou Interbasin Transfer Project which is the proposed transfer of water from the Trinity River in Liberty County to Lake Houston in Harris County, TX. The Coastal Water Authority proposed this project and is the applicant for the Department of the Army permit (DA) SWG-2009-00188.

1. Project Background: The Coastal Water Authority is proposing to convey up to 400 million gallons of water per day (MGD) under gravity in accordance with the City of Houston's existing water rights permit from the Trinity River to Lake Houston, a distance of approximately 26.5 miles. The Trinity River water would be conveyed from the proposed pump station through large diameter pipelines to a sediment storage and settling basin and then through an earthen canal to outfall at the Lake Houston discharge point. The canal would have side berms and there would be an access road, drainage ditches, and perimeter fencing surrounding the water conveyance canal. The proposed project consists of the following:

a. A new water pumping station will be constructed on the Trinity River at Capers Ridge approximately 10 miles north of Dayton, TX.

b. Dual, 108-inch diameter force mains will be constructed extending from the Capers Ridge pump station approximately 3.5 miles to the west and southwest to outfall to the sedimentation settling basin.

c. An approximate 20-acre sedimentation settling and storage basin.

d. An approximate 23.5 mile clay-lined earthen canal with 4:1 side slopes within a 300-foot easement that would include access roads, berms, chain link perimeter fencing, flow control structures, and metering stations.

e. Box culverts at canal and roadway crossings and multiple bawl-ground siphons constructed to facilitate wildlife movement and maintain existing hydrology along the canal conveyance system.

f. An approximate 10-acre maintenance facility located approximately 6 miles north of Dayton, TX.

g. Discharge structure along the southeastern shoreline of Lake Houston.

2. Scoping and Public Involvement Process: A Public Notice was published on April 19, 2010 to initiate the public scoping process for the proposed project. At that time, based on information provided by the Applicant, a preliminary review indicated that an Environmental Impact Statement (EIS) was not required. However, based on continuing permit assessment and information brought forth during the initial coordination process, areas of potential significant impact on the human environment have been identified. Therefore, the EIS process is being implemented so that the permit application can be fully evaluated and a permit decision can be made. All comments received to date, including those provided for review during the initial scoping process, will be considered by the Galveston District during EIS preparation. The purpose of the EIS scoping meeting is to gather information on the subjects to be studied in detail by the EIS.

3. Purpose and Need. The basic purpose of the proposed action is to provide drinking water for the City of Houston and surrounding area. The overall purpose is to provide drinking water utilizing water rights currently held by the City of Houston in the Trinity River. The Corps recognizes that there is a public and private need for drinking water.

4. Alternatives. An evaluation of alternatives to the Applicant's preferred alternative initially being considered includes a No Action alternative, alternatives that would avoid, minimize and compensate for impacts to the aquatic environment within the project right-of-way, alternatives that would avoid, minimize and compensate for impacts to the aquatic environment outside of the right-of-way, alternatives utilizing alternative practices, and other reasonable alternatives that will be developed through the project scoping process which may also meet the identified purpose and need.

5. Public Involvement. The purpose of the public scoping process is to determine relevant issues that will influence the scope of the environmental analysis and EIS alternatives. General concerns in the following categories have been identified to date: potential direct effects to waters of the United States including wetlands; water quality; aquatic species; air quality; environmental justice; socioeconomic environment; archaeological and cultural resources; recreation and recreational resources; energy supply and natural resources; hazardous waste and materials; aesthetics; public health and safety; navigation; erosion and accretion; invasive species; cumulative impacts; public benefit and needs of the people along with potential effects on the human environment. All parties who express interest will be given an opportunity to participate in the process.

6. Coordination. The proposed action is being coordinated with a number of Federal, State, regional and local agencies including but not limited to the Environmental Protection Agency, the United States (U.S.) Fish and Wildlife Service, U.S. National Marine Fisheries Service, the Texas Commission on Environmental Quality, the Texas General Land Office, and the Texas Parks and Wildlife Department. Other agencies, including the Trinity River National Wildlife Refuge, Texas Water Development Board, and the Texas Department of Transportation, may also comment during the scoping process.

7. Availability of the Draft EIS. The Corps currently expects the Draft EIS to be made available to the public by December 2011. A public scoping meeting will be held at the Dayton Community Center in Dayton, Texas. The Corps will announce the public scoping meeting through local news media and the Corps' webpage at http://www.swg.usace.army.mil/reg at least 15 days prior to the first meeting.

Brenda S. Bowen,
Army Federal Register Liaison Officer.

[FR Doc. 2011-12912 Filed 5-24-11; 8:45 am]

BILLING CODE 3720-58-P